DEPARTMENT OF COMMERCE

International Trade Administration

[A-533-808]

Stainless Steel Wire Rods From India: Extension of Time Limit for the Preliminary Results of the Antidumping Duty New-Shipper Review

AGENCY: Import Administration, International Trade Administration, Department of Commerce.

EFFECTIVE DATE: August 8, 2007.

FOR FURTHER INFORMATION CONTACT: Catherine Cartsos or Minoo Hatten, AD/CVD Operations, Office 5, Import Administration, International Trade Administration, U.S. Department of Commerce, 14th Street and Constitution Avenue, NW., Washington, DC 20230; telephone: (202) 482-1757 and (202) 482-1690, respectively.

SUPPLEMENTARY INFORMATION:

Background

On March 20, 2007, the Department of Commerce (the Department) published a notice of initiation of a new-shipper review of the antidumping duty order on stainless steel wire rods from India for Sunflag Iron and Steel Co., Ltd. (Sunflag). See Stainless Steel Wire Rod From India: Notice of Initiation of Antidumping Duty New-Shipper Review, 72 FR 13088 (March 20, 2007). The period of review is December 1, 2005, through November 30, 2006. The preliminary results of this new-shipper review are currently due no later than September 9, 2007.

Extension of Time Limit for Preliminary Results

Section 751(a)(2)(B)(iv) of the Tariff Act of 1930, as amended (the Act), provides that the Department will issue the preliminary results of a new-shipper review of an antidumping duty order within 180 days after the date on which the review is initiated. The Act provides further that, if the case is extraordinarily complicated, the Department may extend the 180-day period to 300 days.

The Department has determined that this new-shipper review is extraordinarily complicated and it is not possible to complete the preliminary results by the current deadline of September 9, 2007. Specifically, there are a number of complex factual issues pertaining to the sales practices, manufacturing costs, and the determination of potential comparison-market matches which affect the calculation of the antidumping margin in this new-shipper review. We require additional time to analyze the questionnaire responses, issue supplemental questionnaires, and conduct verification. Therefore, in accordance with section 751(a)(2)(B)(iv) of the Act and 19 CFR 351.214(i)(2), the Department is extending the time limit for the preliminary results by 40 days to October 19, 2007. The final results of the new-shipper review continue to be due 90 days after the date of issuance of the preliminary results of new-shipper review.

We are issuing this notice in accordance with sections 751(a)(2)(B)(iv) and 777(i)(1) of the Act.

Dated: August 2, 2007.
Gary Taverman,
Acting Deputy Assistant Secretary for Import Administration.

[FR Doc. E7-15481 Filed 8-7-07; 8:45 am]

BILLING CODE 3510-DS-S